DEPARTMENT OF ENERGY

Agency Information Collection Extension; Correction

AGENCY: U.S. Department of Energy.

ACTION: Notice and request for OMB review and comment; correction.

SUMMARY: The Department of Energy (DOE) published a notice in the Federal Register of August 6, 2010 for information that will be used in an impact evaluation of DOE's Solar Decathlon Program. The collection consists of four questionnaires to collect information on the respondents' knowledge of solar energy and energy efficiency and on installations of solar-energy and energy-efficiency equipment with which the respondents have been personally involved. This document corrects information regarding the date for the submission of comments.

FOR FURTHER INFORMATION CONTACT: Jeffery Dowd, Solar Decathlon Evaluation Lead; EE-3B, Forrestal Building; U.S. Department of Energy; 1000 Independence Avenue, SW.; Washington, DC 20585 or at phone 202-586-7258; fax 202-586-2176 or jeff.dowd@ee.doe.gov.

Correction

In the Federal Register of August 6, 2010, in FR Doc. 2010-19404, under the heading DATES, the first sentence is corrected to read: Comments regarding this collection must be received on or before October 7, 2010.

Issued in Washington, DC, on August 18, 2010.
Scott Hine,
Acting Deputy Assistant Secretary-Business Administration (DAS-BA), Office of Energy Efficiency and Renewable Energy.

[FR Doc. 2010-20969 Filed 8-23-10; 8:45 am]

BILLING CODE 6450-01-P